DEPARTMENT OF HOUSING AND URBAN DEVELOPMENT

[Docket No. FR-4644-N-13]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless,

FOR FURTHER INFORMATION CONTACT: Clifford Taffet, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses:

DOT: Mr. Rugene Spruill, Space Management, SVC-140, Transportation Administrative Service Center, Department of Transportation, 400 7th Street, SW., Room 2310, Washington, DC 20590; (202) 366-4246.

GSA: Mr. Brian K. Polly, Assistant Commissioner, General Services Administration, Office of Property Disposal, 18th and F Streets, NW., Washington, DC 20405; (202) 501-0386.

NAVY: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: March 23, 2001.
John D. Garrity,
Director, Office of Special Needs Assistance Programs.

Title V, Federal Surplus Property Program Federal Register Report for 3/30/01

Suitable/Available Properties

Buildings (by State)

California

Bell. Fed. Service Center #2

5600 Rickenbacker Rd.

Bell Co: Los Angeles CA 90201-6418

Landholding Agency: GSA

Property Number: 54200110012

Status: Underutilized

Comment: 200,000 sq. ft., most recent use—warehouse

GSA Number: CA086122

New Jersey

Naval Reserve Center

53 Hackensack Ave.

Kearny Co: Hudson NJ 07302-

Landholding Agency: GSA

Property Number: 54200110013

Status: Excess

Comment: 12,180 sq. ft., bldg. w/paved parking, most recent use—office

GSA Number: NJ0000

Virginia

Structure K-BB

Naval Station

Norfolk Co: VA 23511-

Landholding Agency: Navy

Property Number: 77200110131

Status: Excess

Comment: 3,037 sq. ft., most recent use—storage, off-site use only

Structure K-CC

Naval Station

Norfolk Co: VA 23511-

Landholding Agency: Navy

Property Number: 77200110132

Status: Excess

Comment: 4,904 sq. ft., most recent use—maint. shop, off-site use only

Structure P-81

Naval Station

Norfolk Co: VA 23511-

Landholding Agency: Navy

Property Number: 77200110133

Status: Excess

Comment: 440 sq. ft., off-site use only

Structure U-113

Naval Station

Norfolk Co: VA 23511-

Landholding Agency: Navy

Property Number: 77200110134

Status: Excess

Comment: 7,115 sq. ft., most recent use—garage, off-site use only

Structure SP-128A

Naval Station

Norfolk Co: VA 23511-

Landholding Agency: Navy

Property Number: 77200110135

Status: Excess

Comment: 493 sq. ft., most recent use—storage, off-site use only

Structure SP-129

Naval Station

Norfolk Co: VA 23511-

Landholding Agency: Navy

Property Number: 77200110136

Status: Excess

Comment: 3,564 sq. ft., presence of asbestos/lead, most recent use—office, off-site use only

Structure CEP-184

Naval Station

Norfolk Co: VA 23511-

Landholding Agency: Navy

Property Number: 77200110137

Status: Excess

Comment: 200 sq. ft., off-site use only

Unsuitable Properties

Building (by State)

Michigan

Storage Shed (OS2)

USCG Station

Port Huron Co: St. Clair MI 48060-

Landholding Agency: DOT

Property Number: 87200110036

Status: Unutilized

Reasons: Floodway; Secured Area

Virginia

Bldg. MC61

Naval Station, Camp Elmore

Norfolk Co: VA 23511-

Landholding Agency: Navy

Property Number: 77200110119

Status: Unutilized

Reasons: Extensive deterioration

Bldg. MC62

Naval Station, Camp Elmore

Norfolk Co: VA 23511-

Landholding Agency: Navy

Property Number: 77200110120

Status: Unutilized

Reasons: Extensive deterioration

Facility 85

St. Julien's Annex

Portsmouth Co: VA 23511-

Landholding Agency: Navy

Property Number: 77200110121

Status: Excess

Reason: Extensive deterioration

Facility 113

St. Julian's Annex

Portsmouth Co: VA 23511-

Landholding Agency: Navy

Property Number: 77200110122

Status: Excess

Reason: Extensive deterioration

Structure 161

St. Julian's Creek Annex

Portsmouth Co: VA 23511-

Landholding Agency: Navy

Property Number: 77200110123

Status: Excess

Reason: Secured Area; Extensive deterioration

Structure 162

St. Julian's Creek Annex

Portsmouth Co: VA 23511-

Landholding Agency: Navy

Property Number: 77200110124

Status: Excess

Reason: Secured Area; Extensive deterioration

Structure 236

St. Julian's Creek Annex

Portsmouth Co: VA 23511-

Landholding Agency: Navy

Property Number: 77200110125

Status: Excess

Reason: Secured Area; Extensive deterioration

Structure 273

St. Julian's Creek Annex

Portsmouth Co: VA 23511-

Landholding Agency: Navy

Property Number: 77200110126

Status: Excess

Reason: Secured Area; Extensive deterioration

Structure 276

St. Julian's Creek Annex

Portsmouth Co: VA 23511-

Landholding Agency: Navy

Property Number: 77200110127

Status: Excess

Reasons: Secured Area, Extensive deterioration

Structure 327

St. Julian's Creek Annex

Portsmouth Co: VA 23511-

Landholding Agency: Navy

Property Number: 77200110128

Status: Excess

Reasons: Secured Area, Extensive deterioration

Structure 358

St. Julian's Creek Annex

Portsmouth Co: VA 23511-

Landholding Agency: Navy

Property Number: 77200110129

Status: Excess

Reasons: Secured Area, Extensive deterioration

Bldg. 105

Naval Station

Norfolk Co: VA 23511-

Landholding Agency: Navy

Property Number: 77200110130

Status: Unutilized

Reason: Extensive deterioration

Structure T-27

Naval Station

Norfolk Co: VA 23511-

Landholding Agency: Navy

Property Number: 77200110138

Status: Excess

Reason: Extensive deterioration

Structure U-94

Naval Station

Norfolk Co: VA 23511-

Landholding Agency: Navy

Property Number: 77200110139

Status: Excess

Reason: Extensive deterioration

Structure SP-128

Naval Station

Norfolk Co: VA 23511-

Landholding Agency: Navy

Property Number: 77200110140

Status: Excess

Reason: Extensive deterioration

Bldgs. 63, 115

USCG Training Center

Yorktown Co: York VA 23690-5000

Landholding Agency: DOT

Property Number: 87200110037

Status: Unutilized

Reasons: Within 2000 ft. of flammable or explosive material, Secured Area, Extensive deterioration

Unsuitable Properties

Land (by State)

District of Columbia

1600 sq. ft./T-88

Naval Research Lab

Washington Co: DC 20375-5320

Landholding Agency: Navy

Property Number: 77200110118

Status: Unutilized

Reason: Within 2000 ft. of flammable or explosive material

[FR Doc. 01-7693 Filed 3-29-01; 8:45 am]

BILLING CODE 4210-29-M